DEPARTMENT OF AGRICULTURE

Forest Service

Notice of Madison-Beaverhead Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Beaverhead-Deerlodge National Forest's Madison—Beaverhead Resource Advisory Committee will meet on Tuesday, June 15, 2004 from 10 a.m. until 4 p.m. in Dillon, Montana, for its first business meeting. The meeting is open to the public.

DATES: Tuesday, June 15, 2004.

ADDRESSES: The meeting will be held in the Lewis & Clark Room in Mathews Hall at the University of Montana—Western, 710 South Atlantic Street, Dillon, MT 59725.

FOR FURTHER INFORMATION CONTACT: Thomas K. Reilly, Designated Forest Official (DFO), Forest Supervisor, Beaverhead-Deerlodge National Forest, at (406) 683-3973.

SUPPLEMENTARY INFORMATION: Agenda topics for this meeting include an orientation on committee responsibilities for new members, electing a chair for the committee, administrative information for members, public comment, and discussion about project proposals, as authorized under Title II of Public Law 106-393. If the meeting location is changed, notice will be posted in local newspapers, including the Dillon Tribune and The Montana Standard.

Dated: May 13, 2004.
Thomas K. Reilly,
Forest Supervisor.

[FR Doc. 04-11369 Filed 5-19-04; 8:45 am]

BILLING CODE 3410-11-M